DEPARTMENT OF COMMERCE

United States Patent and Trademark Office

[Docket No. PTO-C-2013-0036]

Extension of Comment Period for Request of the United States Patent and Trademark Office for Public Comments: Voluntary Best Practices Study

AGENCY: United States Patent and Trademark Office, Commerce.

ACTION: Notice of extension of public comment period.

SUMMARY: The United States Patent and Trademark Office (“USPTO”) is extending until August 21, 2013, the period for public comment regarding the processes, data metrics, and methodologies that could be used to assess the effectiveness of cooperative agreements and other voluntary initiatives to reduce intellectual property infringement that occurs on-line—such as copyright piracy and trademark counterfeiting. The USPTO is extending the public comment period to ensure stakeholders have adequate time to submit complete responses.

DATES: To be ensured of consideration written comments should be received on or before August 21, 2013.

ADDRESSES: Written comments should be submitted electronically via http://www.regulations.gov, docket number PTO-C-2013-0036. Submissions should contain the term “Voluntary Best Practices Study.” The regulations.gov Web site is a Federal E-Government Web site that allows the public to find, review and submit comments on documents that have published in the Federal Register and that are open for comment. Submissions filed via the regulations.gov Web site will be available to the public for review and inspection. For this reason, please do not include in your comments information of a confidential nature, such as sensitive personal information or proprietary business information.

If you are unable to provide submissions to regulations.gov, you may contact the Office of Chief Economist by telephone at (571) 272-6900, or by email at saurabh.vishnubhakat@uspto.gov, to arrange for an alternate method of transmission.

FOR FURTHER INFORMATION CONTACT: Saurabh Vishnubhakat, Expert Advisor, Office of Chief Economist, by telephone at (571) 272-6900, or by email at saurabh.vishnubhakat@uspto.gov.

SUPPLEMENTARY INFORMATION: On June 20, 2013, the USPTO published a request for comments on the processes, data metrics, and methodologies that could be used to assess the effectiveness of cooperative agreements and other voluntary initiatives to reduce intellectual property infringement that occurs on-line—such as copyright piracy and trademark counterfeiting. The USPTO is now extending the period for submission of public comments until August 21, 2013.

Dated: July 12, 2013.
Teresa Stanek Rea,
Acting Under Secretary of Commerce for Intellectual Property and Acting Director of the United States Patent and Trademark Office.

[FR Doc. 2013-17166 Filed 7-16-13; 8:45 am]

BILLING CODE 3510-16-P